DEPARTMENT OF THE INTERIOR

Bureau of Land Management

[NV-930-1430-EQ; N-2769]

Termination of Airport Lease

AGENCY: Bureau of Land Management, Interior.

ACTION: Notice of termination.

SUMMARY: This action terminates Airport Lease N-2769 in its entirety. The land will be opened to the public land laws generally, including the mining and mineral leasing laws.

DATES: The effective date is July 9, 2003.

ADDRESSES: Address all written comments concerning this notice to: Jeffrey A. Weeks, AFM Nonrenewable Resources, Bureau of Land Management, HC 33 Box 33500, Ely, NV 89301-9408.

FOR FURTHER INFORMATION CONTACT: Technical Information: Doris Metcalf, Lead Realty Specialist, at 775-289-1852 or e-mail Doris_Metcalf@nv.blm.gov or Cynthia Longinetti, Resource Assistant, at 775-289-1809 or e-mail Cynthia_Longinetti@nv.blm.gov.

SUPPLEMENTARY INFORMATION: Under the authority delegated by Appendix 5 of Bureau of Land Management Manual Supplement 1203, dated November 25, 1998, Private Airport Lease N-2769, located on the following lands, is hereby terminated in its entirety:

Mount Diablo Meridian, Nevada

T. 5 N., R. 67 E., Section 33, S½N½, Section 34, SWNE, S½NW.

Containing 280 acres in Lincoln County, Nevada.

The classification under the Act of May 24, 1928, segregated the public land from all other forms of appropriation under the public land laws, including the mining and mineral leasing laws. Airport Lease N-2769 is no longer required and has been closed in accordance with BLM and FAA requirements. The land is now open under the public land laws, including the mining and mineral leasing laws.

Dated: April 28, 2003.
Gene A. Kolkman,
Field Manager.

[FR Doc. 03-14451 Filed 6-6-03; 8:45 am]

BILLING CODE 4310-HC-P